SOCIAL SECURITY ADMINISTRATION

[Docket No. SSA-2018-0059]

Privacy Act of 1974; System of Records

AGENCY: Social Security Administration (SSA).

ACTION: Notice of a modified system of records.

SUMMARY: In accordance with the Privacy Act, we are issuing public notice of our intent to modify our existing systems of records listed below under the System Name and Number section. This notice publishes details of the modification as set forth under the caption, SUPPLEMENTARY INFORMATION.

DATES: This routine use is effective December 3, 2018. We invite public comment on the addition of this routine use. In accordance with 5 U.S.C. 552a(e)(4) and (e)(11), the public is given a 30-day period in which to submit comments. Therefore, please submit any comments by December 3, 2018.

ADDRESSES: The public, OMB, and Congress may comment on this publication by writing to the Executive Director, Office of Privacy and Disclosure, Office of the General Counsel, SSA, Room G-401 West High Rise, 6401 Security Boulevard, Baltimore, Maryland 21235-6401, or through the Federal e-Rulemaking Portal at http://www.regulations.gov; please reference docket number SSA-2018-0059. All comments we receive will be available for public inspection at the above address and we will post them to http://www.regulations.gov.

FOR FURTHER INFORMATION CONTACT: Elizabeth Boorstein, Government Information Specialist, Privacy Implementation Division, Office of Privacy and Disclosure, Office of the General Counsel, SSA, Room G-401 West High Rise, 6401 Security Boulevard, Baltimore, Maryland 21235-6401, telephone: (410) 966-2824, email: Elizabeth.Boorstein@ssa.gov.

SUPPLEMENTARY INFORMATION: The Office of Management and Budget (OMB) Memorandum 17-12 (M-17-12), Preparing for and Responding to a Breach of Personally Identifiable Information (January 3, 2017) requires Federal agencies to publish a routine use in its systems of records that authorizes disclosure of records that may reasonably be needed by a Federal agency or Federal entity in connection with the response and remedial efforts in the event of a breach. The proposed routine use permits SSA to disclose records that may reasonably be needed by another Federal agency or Federal entity in its efforts to respond and remediate a breach of personally identifiable information. Such a routine use will serve to protect the interests of the people whose information is at risk by allowing SSA to assist another Federal agency or Federal entity to take appropriate steps to facilitate a timely and effective response to a confirmed or suspected breach. It will also help SSA improve its ability to prevent, minimize, or remedy any harm that may result from a compromise of data maintained in SSA's systems of records. Such a use is in the best interest of both the individual whose record is at issue and the public.

To satisfy the routine use requirements in OMB M-17-12, SSA is adding the following routine use to our Privacy Act systems of records: ¹

¹ Privacy Act systems of records that contain data protected under the Internal Revenue Code (IRC) will not contain this routine use as the IRC does not contain a provision that permits disclosure for this purpose.

To another Federal agency or Federal entity, when SSA determines that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

SYSTEM NAME AND NUMBER

SSA will establish the new routine use listed above in the following systems of records:

System No. and name | New routine use | Federal Register citation No./ publication date
60-0003—Attorney Fee File | No. 10 | 71 FR 1803, 01/11/06. 72 FR 69723, 12/10/07.
60-0004—Working File of the Appeals Council | No. 8 | 74 FR 19620, 04/29/09.
60-0005—Administrative Law Judge Working File on Claimant Cases | No. 9 | 70 FR 60383, 10/17/09.
60-0006—Storage of Hearing Records: Tape Cassettes and Audiograph Discs | No. 9 | 71 FR 1805, 01/11/06. 72 FR 69723, 12/10/07.
60-0009—Hearings and Appeals Case Control System | No. 7 | 47 FR 45589, 10/13/82.
|  | 48 FR 37526, 08/18/83.
|  | 51 FR 8243, 03/10/86.
|  | 52 FR 12084, 04/14/87.
|  | 59 FR 46439, 09/08/94.
|  | 65 FR 46997, 08/01/00.
|  | 72 FR 69723, 12/10/07.
60-0010—Hearing Office Tracking System of Claimant Cases | No. 7 | 71 FR 1806, 01/11/06. 72 FR 69723, 12/10/07.
60-0012—Listing and Alphabetical Name File (Folder) of Vocational Experts, Medical Experts And Other Health Care/Non-Health Care Professionals Experts (Medicare) | No. 10 | 76 FR 24557, 05/02/11.
60-0013—Records of Usage of Medical Experts, Vocational Experts, and Other Health Care/Non-Health Care Professionals Experts (Medicare) | No. 8 | 71 FR 1809, 01/11/06. 72 FR 69723, 12/10/07.
60-0014—Curriculum Vitae and Professional Qualifications of Medical Advisors, and Resumes of Vocational Experts | No. 9 | 47 FR 45589, 10/13/82. 48 FR 37526, 08/18/83. 51 FR 8243, 03/10/86.
|  | 52 FR 12084, 04/14/87.
|  | 59 FR 46439, 09/08/94.
|  | 72 FR 69723, 12/10/07.
60-0038—Employee Building Pass Files | No. 8 | 47 FR 45606, 10/13/82.
|  | 48 FR 37526, 08/18/83.
|  | 51 FR 8243, 03/10/86.
|  | 52 FR 12084, 04/14/87.
|  | 59 FR 46439, 09/08/94.
|  | 72 FR 69723, 12/10/07.
60-0040—Quality Review System | No. 14 | 47 FR 45606, 10/13/82.
|  | 48 FR 37526, 08/18/83.
|  | 51 FR 8243, 03/10/86.
|  | 52 FR 12084, 04/14/87.
|  | 59 FR 46439, 09/08/94.
|  | 65 FR 46997, 08/01/00.
|  | 72 FR 69723, 12/10/07.
60-0042—Quality Review Case Files | No. 14 | 47 FR 45607, 10/13/82.
|  | 48 FR 37526, 08/18/83.
|  | 51 FR 8243, 03/10/86.
|  | 52 FR 12084, 04/14/87.
|  | 59 FR 46439, 09/08/94.
|  | 65 FR 46997, 08/01/00.
|  | 72 FR 69723, 12/10/07.
60-0044—National Disability Determination Services | No. 12 | 71 FR 11810, 01/11/06. 72 FR 69723, 12/10/07.
60-0045—Black Lung Payment System | No. 17 | 52 FR 9543, 03/25/87.
|  | 59 FR 46439, 09/08/94.
|  | 60 FR 52948, 10/11/95.
|  | 72 FR 69723, 12/10/07.
60-0046—Disability Determination Service Consultant's File | No. 8 | 71 FR 1812, 01/11/06. 72 FR 69723, 12/10/07.
60-0050—Completed Determination Record—Continuing Disability Determinations | No. 11 | 71 FR 1814, 01/11/06. 72 FR 69723, 12/10/07.
60-0057—Quality Evaluation Data Records | No. 6 | 47 FR 45615, 10/13/82.
|  | 48 FR 37526, 08/18/83.
|  | 51 FR 8243, 03/10/86.
|  | 52 FR 12084, 04/14/87.
|  | 59 FR 46439, 09/08/94.
|  | 65 FR 46997, 08/01/00.
|  | 72 FR 69723, 12/10/07.
60-0058—Master Files of Social Security Number Holders and SSN Applications | No. 50 | 75 FR 82121, 12/29/10. 78 FR 40542, 07/05/13.
|  | 79 FR 78780, 02/13/14.
|  | 83 FR 31250, 07/03/18.
|  | 83 FR 31252, 07/03/18.
60-0059-Earnings Recording and Self-Employment Income System | No. 35 | 71 FR 1819, 01/11/06. 78 FR 40542, 07/05/13.
60-0063—Resource Accounting System | No. 7 | 47 FR 45620, 10/13/82.
|  | 48 FR 37526, 08/18/83.
|  | 51 FR 8243, 03/10/86.
|  | 52 FR 12084, 04/14/87.
|  | 59 FR 46439, 09/08/94.
|  | 65 FR 46997, 08/01/00.
|  | 72 FR 69723, 12/10/07.
60-0077—Congressional Inquiry File | No. 8 | 71 FR 1823, 01/11/06. 72 FR 69723, 12/10/07.
60-0078—Public Inquiry Correspondence File | No. 9 | 71 FR 1823, 01/11/06. 72 FR 69723, 12/10/07.
60-0089—Claims Folders System | No. 38 | 68 FR 15784, 04/01/03. 72 FR 69723, 12/10/07. 83 FR 31250, 07/03/18.
60-0090—Master Beneficiary Record | No. 43 | 71 FR 1829, 01/11/06.
|  | 72 FR 69723, 12/10/07.
|  | 78 FR 40542, 07/05/13.
|  | 83 FR 31250, 07/03/18.
|  | 83 FR 31252, 07/03/18.
60-0094—Recovery of Overpayments, Accounting and Reporting | No. 12 | 70 FR 49354, 08/23/05. 72 FR 69723, 12/10/07. 83 FR 31250, 07/03/18.
60-0103—Supplemental Security Income Record | No. 41 | 71 FR 1830, 01/11/06. 72 FR 69723, 12/10/07.
|  | 83 FR 31250, 07/03/18.
|  | 83 FR 31252, 07/03/18.
60-0104—Race and Ethnicity Collection System (RECS) | No. 10 | 74 FR 42727, 08/24/09.
60-0118—Non-Contributory Military Service Reimbursement System | No. 7 | 71 FR 1834, 01/11/06. 72 FR 69723, 12/10/07.
60-0159—Continuous Work History Sample (Statistics) | No. 6 | 47 FR 45643, 10/13/82. 65 FR 46997, 08/01/00. 72 FR 69723, 12/10/07.
60-0186—Civil Action Tracking System (CATS) | No. 7 | 70 FR 60383, 10/17/05. 72 FR 69723, 12/10/07.
60-0196—Disability Studies, Surveys, Records and Extracts (Statistics) | No. 5 | 57 FR 55265, 11/24/92. 65 FR 46997, 08/01/00. 72 FR 69723, 12/10/07.
60-0199—Extramural Surveys (Statistics) | No. 5 | 71 FR 1835, 01/11/06. 72 FR 69723, 12/10/07.
60-0200—Retirement and Survivors Studies, Surveys, Records and Extracts (Statistics) | No. 4 | 47 FR 45649, 10/13/82. 65 FR 46997, 08/01/00. 72 FR 69723, 12/10/07.
60-0202—Old Age, Survivors and Disability Beneficiary and Worker Records and Extracts (Statistics) | No. 6 | 47 FR 45650, 10/13/82. 69 FR 11693, 08/01/00.
|  | 69 FR 11693, 03/11/04.
|  | 72 FR 69723, 12/10/07.
60-0203—Supplemental Security Income Studies, Surveys, Records and Extracts (Statistics) | No. 5 | 47 FR 45651, 10/13/82. 65 FR 46997, 08/01/00. 72 FR 69723, 12/10/07.
60-0210—Record of Individuals Authorized Entry to Secured Automated Data Processing Area | No. 8 | 47 FR 51795, 11/17/85. 51 FR 8243, 03/10/86.
|  | 52 FR 12084, 04/14/87.
|  | 59 FR 46439, 09/08/94.
|  | 72 FR 69723, 12/10/07.
60-0211—Beneficiary, Family and Household Surveys, Records and Extracts System (Statistics) | No. 6 | 48 FR 51693, 11/10/83. 65 FR 46997, 08/01/00.
|  | 69 FR 11693, 03/11/04.
|  | 72 FR 69723, 12/10/07.
60-0213—Quality Review of Hearing/Appellate Process | No. 9 | 47 FR 45655, 10/13/82.
|  | 48 FR 37526, 08/18/83.
|  | 51 FR 8243, 03/10/86.
|  | 52 FR 12084, 04/14/87.
|  | 59 FR 46439, 09/08/94.
|  | 65 FR 46997, 08/01/00.
|  | 72 FR 69723, 12/10/07.
60-0214—Personal Identification Number File (PINFile) | No. 5 | 59 FR 46439, 09/08/94. 72 FR 69723, 12/10/07.
60-0218—Disability Insurance and Supplemental Security Income Demonstration Projects and Experiments System | No. 8 | 71 FR 1836, 01/11/06. 72 FR 69723, 12/10/07.
60-0219—Representative Disqualification/Suspension Information System | No. 18 | 75 FR 25904, 05/10/10. 80 FR 30969, 01/06/15.
60-0220—Kentucky Birth Records System | No. 6 | 52 FR 12084, 04/14/87. 59 FR 46439, 09/08/94. 72 FR 69723, 12/10/07.
60-0221—Vocational Rehabilitation Reimbursement Case Processing System | No. 11 | 71 FR 1840, 01/11/06. 72 FR 69723, 12/10/07.
60-0224—SSA-Initiated Personal Earnings and Benefit Estimate Statement (SIPEBES) History File | No. 8 | 59 FR 54004, 10/27/94. 72 FR 69723, 12/10/07.
60-0225—SSA Initiated Personal Earnings and Benefit Estimate Statement Address System for Certain Territories | No. 7 | 59 FR 54004, 10/27/94. 72 FR 69723, 12/10/07.
60-0228—Safety Management Information System (SSA Accident, Injury and Illness Reporting System) | No. 8 | 71 FR 1844, 01/11/06. 72 FR 69723, 12/10/07.
60-0230—Social Security Administration Parking Management Record System | No. 6 | 71 FR 1846, 01/11/06. 72 FR 69723, 12/10/07.
60-0231—Financial Transactions of SSA Accounting and Finance Offices | No. 20 | 71 FR 1847, 01/11/06. 72 FR 69723, 12/10/07.
60-0232—Central Registry of Individuals Doing Business With SSA (Vendor File) | No. 12 | 71 FR 1849, 01/11/06. 72 FR 69723, 12/10/07.
60-0234—Employee Assistance Program (EAP) Records | No. 8 | 71 FR 1851, 01/11/06. 72 FR 69723, 12/10/07.
60-0236—Employee Development Program Records | No. 14 | 71 FR 1853, 01/11/06. 72 FR 69723, 12/10/07.
60-0237—Employees' Medical Records | No. 9 | 71 FR 1854, 01/11/06. 72 FR 69723, 12/10/07.
60-0238—Pay, Leave and Attendance Records | No. 26 | 71 FR 1856, 01/11/06. 72 FR 69723, 12/10/07.
60-0239—Personnel Records in Operating Offices | No. 18 | 71 FR 1859, 01/11/06. 72 FR 69723, 12/10/07.
60-0241—Employee Suggestion Program Records New Routine Uses | No. 7 | 71 FR 1861, 01/11/06. 72 FR 69723, 12/10/07.
60-0244—Administrative Grievances Filed Under Part 771 of 5 CFR | No. 20 | 71 FR 1862, 01/11/06. 72 FR 69723, 12/10/07.
60-0245—Negotiated Grievance Procedure Records | No. 22 | 71 FR 1864, 01/11/06. 72 FR 69723, 12/10/07.
60-0250—Equal Employment Opportunity (EEO) Counselor and Investigator Personnel Records | No. 14 | 71 FR 1866, 01/11/06. 72 FR 69723, 12/10/07.
60-0255—Plans for Achieving Self-Support (PASS) Management Information System | No. 10 | 71 FR 1867, 01/11/06. 72 FR 69723, 12/10/07.
60-0259—Claims Under the Federal Tort Claims Act and Military Personnel and Civilian Employees' Claim Act | No. 9 | 71 FR 1869, 01/11/06. 72 FR 69723, 12/10/07.
60-0262—Attorney Applicant Files | No. 8 | 71 FR 1871, 01/11/06. 72 FR 69723, 12/10/07.
60-0268—Medicare Part B Buy-In Information System .. | No. 10 | 64 FR 10173, 03/02/99. 72 FR 69723, 12/10/07.
60-0269—Prisoner Update Processing System (PUPS) | No. 13 | 64 FR 11076, 03/08/99. 72 FR 69723, 12/10/07. 78 FR 40542, 07/05/13.
60-0270—Records of Individuals Authorized Entry into Secured Areas by Digital Lock Systems, Electronic Key Card Systems or Other Electronic Access Devices | No. 6 | 65 FR 77953, 12/13/00. 72 FR 69723, 12/10/07.
60-0273—Social Security Title VIII Special Veterans Benefits Claims Development and Management Information System | No. 16 | 65 FR 13803, 03/14/00. 65 FR 46997, 08/01/00. 72 FR 69723, 12/10/07.
60-0274—Litigation Docket and Tracking System | No. 12 | 71 FR 1872, 01/11/06. 72 FR 69723, 12/10/07.
60-0275—Civil Rights Complaints Filed by Members of the Public | No. 10 | 71 FR 1874, 01/11/06. 72 FR 69723, 12/10/07.
60-0276—Social Security Administration's (SSA's) Talking and Listening to Customers (TLC) | No. 7 | 65 FR 48272, 08/07/00. 72 FR 69723, 12/10/07.
60-0279—Social Security Administration's (SSA's) Mandate Against Red Tape (SMART) | No. 8 | 65 FR 49047, 08/10/00. 72 FR 69723, 12/10/07.
60-0280—SSA Administrative Sanctions | No. 7 | 65 FR 54595, 09/08/00. 72 FR 69723, 12/10/07.
60-0290—Social Security Administration's Customer PIN/Password (PPW) Master File System | No. 8 | 71 FR 1874, 01/11/06. 72 FR 69723, 12/10/07.
60-0295—Ticket-to-Work and Self-Sufficiency Program Payment Database | No. 9 | 66 FR 17985, 04/04/01. 72 FR 69723, 12/10/07.
60-0300—Ticket-to-Work Program Manager (PM) Management Information System | No. 9 | 66 FR 32656, 06/15/01. 72 FR 69723, 12/10/07.
60-0305—SSA Mass Transportation Subsidy Program System | No. 13 | 67 FR 44658, 07/03/02. 72 FR 69723, 12/10/07.
60-0310—Medicare Savings Programs Information System | No. 10 | 69 FR 17019, 03/31/04. 72 FR 69723, 12/10/07.
60-0315—Reasonable Accommodation for Persons with Disabilities (RAPD) | No. 12 | 70 FR 62157, 10/25/05. 72 FR 69723, 12/10/07.
60-0318—Representative Payee/Misuse Restitution Control System (RP/MRCS) | No. 11 | 70 FR 29547, 05/23/05. 72 FR 69723, 12/10/07. 83 FR 31250, 07/03/18.
60-0320—Electronic Disability Claim File (eDib) | No. 32 | 68 FR 71210, 12/22/03. 72 FR 69723, 12/10/07.
60-0321—Medicare Part D and Part D Subsidy File | No. 23 | 71 FR 42159, 07/25/06. 72 FR 69723, 12/10/07.
60-0325—Appointed Representatives File | No. 14 | 74 FR 51940, 10/08/09.
60-0328—National Docketing Management Information System (NDMIS) | No. 14 | 70 FR 34515, 06/14/05. 70 FR 36224, 06/22/05. 72 FR 69723, 12/10/07.
60-0330—eWork | No. 11 | 68 FR 45037, 09/15/03. 72 FR 69723, 12/10/07.
60-0340—Freedom of Information Act (FOIA) and Privacy Act Record Request and Appeal System | No. 11 | 81 FR 45352, 07/13/16.
60-0350—Visitor Intake Process/Customer Service Record (VIP/CSR) System | No. 9 | 72 FR 71470, 12/17/07.
60-0355—The Non-Attorney Representative Prerequisites Process File (NARPPF) | No. 12 | 69 FR 77823, 12/28/04. 72 FR 69723, 12/10/07.
60-0356—Administrative Law Judge/Public Alleged Misconduct Complaints (ALJ/PAMC) | No. 15 | 75 FR 8171, 02/23/10.
60-0360—Identity Protection Program (IPP) System | No. 12 | 73 FR 15828, 03/25/08.
60-0361—Identity Management System (IDMS) | No. 16 | 71 FR 64751, 11/03/06. 72 FR 69723, 12/10/07.
60-0362—Recordings of Service Operations | No. 13 | 73 FR 16408, 03/27/08.
60-0363—Call Detail Management Information Report .. | No. 13 | 71 FR 16408, 03/27/08.
60-0364—Service Operation Database | No. 13 | 73 FR 16408, 03/27/08.
60-0370—The Representative Payee and Beneficiary Survey Data System | No. 7 | 71 FR 16397, 03/31/06. 72 FR 69723, 12/10/07.
60-0371—Social Security Administration Unified Measurement System/Managerial Cost Accountability (SUMS/MCAS) | No. 13 | 73 FR 5619, 01/30/08.
60-0372—Economic Recovery List (ERL) Database | No. 13 | 75 FR 40014, 07/13/10.
60-0373—Repository of Electronic Authentication Data Master File | No. 9 | 75 FR 79065, 12/19/10.
60-0378—Requests for Accommodation from Members of the Public (RAMP) | No. 12 | 79 FR 34558, 06/17/14.
60-0380—Anti-Harassment & Hostile Work Environment Case Tracking and Records System | No. 14 | 81 FR 87119, 12/02/16.

SSA is not republishing the system of records notices in their entirety. Instead, SSA is republishing only the identification number, the name of the system of record, the number of the new routine use, and the issue of the Federal Register in which the system notice was last published in full, including the subsequent modification to the system of records notice's publication date and page number.

SECURITY CLASSIFICATION:

Unclassified.

SYSTEM LOCATION:

SSA provides the address of the component and system manager responsible for each system in the Federal Register notice listed above.

SYSTEM MANAGER(S):

SSA provides the title, business address, and contact information of the agency official who is responsible for the system in the Federal Register notice listed above.

HISTORY:

SSA provides the citation to the last full Federal Register notice, as well as last subsequent modification notice to the system of records notice above.

In accordance with 5 U.S.C. 552a(r), SSA provided a report to OMB and Congress on this modification to our system of records.

Dated: August 16, 2018.
Mary Zimmerman,
Acting Executive Director, Office of Privacy and Disclosure, Office of the General Counsel.

[FR Doc. 2018-23905 Filed 10-31-18; 8:45 am]

BILLING CODE P